DEPARTMENT OF THE INTERIOR

National Park Service

36 CFR Part 7

RIN 1024-AD92

Special Regulations; Areas of the National Park System, Yellowstone National Park

AGENCY: National Park Service, Interior.

ACTION: Proposed rule.

SUMMARY: The National Park Service (NPS) is proposing this rule to establish a management framework that allows the public to experience the unique winter resources and values at Yellowstone National Park. The proposed rule would provide a variety of use levels and experiences for visitors by establishing maximum numbers of snowmobiles and snowcoaches permitted in the park on a given day. It also would require that most snowmobiles and snowcoaches operating in the park meet air and sound requirements and be accompanied or operated by a commercial guide.

DATES: Comments must be received by September 6, 2011.

ADDRESSES: You may submit your comments, identified by Regulation Identifier Number (RIN) 1024-AD92, by any of the following methods:

• Federal eRulemaking Portal: http://www.regulations.gov. Follow the instructions for submitting comments.

• Mail: Yellowstone National Park, Winter Use Proposed Rule, P.O. Box 168, Yellowstone NP, WY 82190

• Hand Deliver to: Management Assistant's Office, Headquarters Building, Mammoth Hot Springs, Yellowstone National Park, Wyoming.

All submissions received must include the agency name and RIN. For additional information see “Public Participation” under SUPPLEMENTARY INFORMATION below.

FOR FURTHER INFORMATION CONTACT: Wade Vagias, Management Assistant's Office, Headquarters Building, Yellowstone National Park, 307-344-2019 or at the address listed in the ADDRESSES section.

SUPPLEMENTARY INFORMATION:

Background

The NPS has been managing winter use in Yellowstone National Park for several decades. A detailed history of the winter use issue, past planning efforts, and litigation is provided in the background section of the 2011 Draft Environmental Impact Statement (DEIS). The park has most recently operated under the 2009 interim plan, which was in effect for the past two winter seasons and expired by its own terms on March 15, 2011. With publication of this proposed rule, and the DEIS, the NPS is soliciting public comment on a long-term direction for winter use in Yellowstone National Park.

Additional information, including the DEIS, is available online at: http://www.nps.gov/yell/parkmgmt/participate.htm.

Park Resource Issues

The DEIS analyzes the issues and environmental impacts of seven alternatives for the management of winter use in the park. Major issues analyzed in the DEIS include social and economic issues, human health and safety, wildlife, air quality, natural soundscapes, visitor use and experience, and visitor accessibility. Impacts associated with each of the alternatives are detailed in the DEIS, which is available at the following site: http://parkplanning.nps.gov.

Description of the Proposed Rule

Snowmobile and snowcoach use at Yellowstone National Park is referred to as oversnow vehicle (OSV) use. The proposed regulations are similar in many respects to plans and rules that have been in effect for the last six winter seasons. Thus, many of the regulations regarding operating conditions, designated routes, and restricted hours of operation have been enforced by the NPS for several years. One notable difference, however, is a new proposal in this rule to provide a variety of use levels and experiences for visitors by establishing varying maximum numbers of OSVs permitted in the park for different days throughout the winter season. This would be accomplished by implementing different use levels for OSV use that would vary day-by-day, on a pre-set annual schedule, rather than being fixed for the entire winter season. Authorized snowmobile use would range from 110 to 330 vehicles per day while snowcoach use would range from 30 to 80 vehicles per day. The varying use levels would provide for high and low OSV use days, allowing for a variety of motorized and non-motorized visitor experiences throughout the winter season. Accordingly, certain segments of the park's snow roads would be closed to visitor OSV use and would be available for skiing and snowshoeing during certain times of the season.

A one-season transition period to prepare for the implementation of the new winter use plan would be in place for the 2011-2012 winter season. During this transition period, provisions of the 2009 interim plan would be re-instituted, allowing for up to 318 snowmobiles and 38 snowcoaches per day for the first year of the new plan only.

Monitoring

As part of the park's adaptive management program for winter use, scientific studies and monitoring of winter visitor use and park resources would continue under this proposal. Selected areas of the park, including sections of roads, would be closed to visitor use if the studies and monitoring indicate that human presence or activities have a substantial effect on wildlife or other park resources that cannot be mitigated. The NPS would provide a one-year notice before any such closure would be implemented, unless an immediate closure is necessary. The Superintendent would continue to have the authority under either this regulation or 36 CFR 1.5 to take emergency actions to protect park resources or values.

Air Emission Requirements

Snowmobiles

The proposed rule retains the requirement from previous winter use plans that all recreational snowmobiles comply with air emissions restrictions. The emission requirements for snowmobiles (and the implementation of those requirements for snowcoaches) would ensure air pollution levels remain low in the park in the winter, as evidenced by the past seven years of air quality monitoring that has indicated very good air quality.

During the late 1990s, when an average of 795 snowmobiles entered the park each day, high levels of carbon monoxide (CO), particulate matter (PM), and hydrocarbons (HC) were detected. To mitigate these emissions, the NPS implemented snowmobile air emission requirements beginning in 2004 that called for emission levels no greater than 120 grams per kilowatt hour (g/kW-hr) of CO and 15 g/kW-hr for HC. The NPS proposes to continue these emission requirements.

The requirements in place since 2004 have significantly reduced CO, PM, and HC emissions. As compared to EPA's baseline emissions assumptions for conventional two-stroke snowmobiles, NPS air emission requirements have achieved a 70% reduction in CO and a 90% reduction in HC. Improvements to air quality have also been assisted by daily use limits and commercial guiding (which helps assure use of NPS-certified snowmobiles and keeps idling to a minimum). Use of four-stroke snowmobiles to meet these emission requirements has resulted in a substantial reduction in CO and PM; however, an increase in nitrogen oxide (NOX) has been noted with this type of engine. NPS expects that implementation of air emission requirements for snowcoaches beginning in the winter of 2014-2015 will lead to a reduction in NOX inside the park, and will continue to monitor NOX. If no reduction in NOX levels is seen after implementation of air emission requirements for snowcoaches, NPS may act in the future to establish NOX emission limits for snowmobiles.

The NPS will continue the requirement that all snowmobile manufacturers use the EPA-approved 5-mode test method and Family Emission Limit (FEL) procedure under 40 CFR parts 1051 and 1065 to certify that a snowmobile meets the NPS requirements. The FEL allows a single engine type to be certified for use in a number of different snowmobile models, or an engine “family.” Snowmobile manufacturers may demonstrate that snowmobiles meet NPS air-emissions requirements by submitting to the NPS a copy of their EPA application (which includes the engine's FEL) used to demonstrate compliance with EPA's snowmobile emission regulation. The NPS would accept the application and information from a manufacturer, while review and certification by EPA is pending, in support of NPS conditionally certifying a snowmobile as meeting NPS emission requirements. Should EPA certify the snowmobile at a level that would no longer meet NPS requirements, this snowmobile would no longer be considered to be NPS-compliant and its use in the park would be prohibited or phased out according to a schedule determined by the NPS.

A snowmobile that has been modified from the manufactured design may increase emissions of HC and CO greater than the proposed emission restrictions and therefore would not be allowed to enter the park. It would be the responsibility of the end user and guide to ensure that a snowmobile complies with all applicable restrictions.

Snowmobiles being operated on the Cave Falls road, which extends approximately one mile into the park from the adjacent national forest, would continue to be exempt from the air-emission requirements. The Cave Falls road does not connect to other park roads and snowmobile use of this road is independent of the other park oversnow routes.

Snowcoaches

Under concessions contracts issued in 2003, 78 snowcoaches are authorized to operate in the park. Approximately 29 of these snowcoaches, referred to as “historic snowcoaches” in this rule, were manufactured by Bombardier before 1983 and designed specifically for oversnow travel. All other snowcoaches are passenger vans or light or medium buses that have been converted for oversnow travel using tracks and/or skis.

During the first three years of this plan (through 2013-2014), historic snowcoaches would not be required to meet air emission requirements. However, all non-historic snowcoaches must meet the EPA air emissions standards in effect when the vehicle was manufactured. This would be implemented by ensuring that all emission-related exhaust components are installed and functioning properly. Malfunctioning emissions-related components must be replaced with the original equipment manufacturer (OEM) components where possible. If OEM parts are not available, aftermarket parts may be used. Catalysts that have exceeded their useful life must be replaced unless the operator can demonstrate that the catalyst is functioning properly. Operating a snow coach that has its original pollution control equipment modified or disabled would be prohibited. A snowcoach may be subject to periodic inspections to determine compliance with emission requirements.

In 2004, EPA began phasing in new and cleaner emissions standards for light-duty vehicles, light-duty trucks, and medium-duty passenger vehicles and in 2008 for heavy duty spark and compression ignition vehicles (the vehicle classes most converted snowcoaches meet). These standards are called Tier 2 (for lighter-duty vehicles) or “engine configuration certified” (for heavier duty, diesel vehicles). Implementation of these standards was completed in 2010.

As of the 2014-2015 winter, the proposed rule would require that all snowcoach engines meet EPA model year 2010 emission requirements, except that diesel-fueled snowcoaches with a gross vehicle weight rating (GVWR) of 8,500 pounds or more would need to comply with EPA model year 2010 “engine configuration certified” diesel air emission standards. Alternatively, and achieving better emission results, diesel snowcoaches with a GVWR between 8,500 and 10,000 pounds may meet the EPA light-duty Tier 2 standards. The NPS recognizes that some snowcoaches will likely need to be retrofitted in order to comply.

In February 2005 and 2006, the University of Denver collected emissions data from various snowcoaches. Results indicated that snowcoaches could be modernized to reduce CO and HC emissions. These studies found that newer coaches are cleaner than older models and have emission controls that will function more of the time. By implementing an air emission requirement for snowcoaches that calls for newer engine and emission controls, the NPS expects continued improvements in the park's air quality.

Sound Emission Requirements

Snowmobiles

Sound restrictions continue to require a snowmobile to operate at or below 73 decibels measured using the A scale (dB(A)) while at full throttle, according to Society of Automotive Engineers J192 test procedures (revised 1985) (SAE J192). Beginning with the 2014-2015 winter season, the NPS would use the most current (as of November 2012) version of SAE J192 to determine compliance with this requirement.

The NPS recognizes that the SAE updated these test procedures in 2003; however, the changes between the 2003 and 1985 test procedures could alter the measurement results. The NPS sound emission requirement was initially established using 1985 test procedures (in addition to information provided by industry and modeling). Therefore, to be consistent with our requirements, we would continue to use the 1985 test. The NPS also understands that an update to the 2003 J192 procedures may be underway. This rule proposes to transition to the newer J192 test procedures for the 2014-2015 winter season. By specifying November 2012 for the revised procedure, the NPS and industry would have sufficient time to test snowmobiles that are in development and production well ahead of the 2014-2015 winter season. This rule also proposes that the NPS will periodically update testing to conform to future changes in SAE J192 standards and procedures.

In past rules, the NPS has allowed a barometric pressure variance from SAE J192 procedures to determine if a snowmobile meets sound emission requirements. This is because the original testing occurred in Yellowstone at a barometric pressure lower than what is allowed under SAE J192. With the adoption of an updated SAE J192, the NPS believes it is the appropriate time to bring all aspects of testing into conformance with the SAE J192 procedures.

For the first three winters of implementation of this rule (through 2013-2014), snowmobiles may be tested at any barometric pressure equal to or above 23.4 inches Hg uncorrected (as measured at or near the test site). This exception to the SAE J192 test procedures maintains consistency with the testing conditions previously used to determine the sound emissions requirement. The reduced barometric pressure allowance was necessary since snowmobiles were tested at the high elevation of the park where atmospheric pressure is lower than the SAE J192's requirements. Testing data indicate that snowmobiles test quieter at higher elevations, and therefore may be able to pass this test at higher elevations but fail when tests are conducted near sea level. Beginning in 2014-2015, the NPS would require manufacturers to meet the requirements of the revised SAE J192 with no barometric pressure (high altitude) exception.

For sound emissions, snowmobile manufacturers may submit their existing Snowmobile Safety and Certification Committee (SSCC) sound level certification form. Under the SSCC machine safety standards program, snowmobile models are certified by an independent testing company as complying with all SSCC safety standards, including sound standards. The proposed rule would not require the SSCC form specifically, as there could be other acceptable documentation in the future. The NPS intends to work cooperatively with the snowmobile manufacturers on appropriate documentation. Other test methods could be approved by NPS on a case-by-case basis.

Individual snowmobiles that have been modified and therefore may increase sound emissions beyond the proposed emission restrictions would be denied entry to the park. It would be the responsibility of the end user and guide to ensure that their snowmobile complies with all applicable restrictions.

The NPS requirement for sound was established by reviewing individual machine results from side-by-side testing performed by the NPS contractor, Harris Miller Miller & Hanson Inc. (HMMH) and the State of Wyoming's contractor, Jackson Hole Scientific Investigations (JHSI). Six four-stroke snowmobiles were tested for sound emissions. These emission reports independently concluded that all the snowmobiles tested between 69.6 and 77.0 dB(A) using the SAE J192 protocol. On average, the HMMH and JHSI studies measured four-strokes at 73.1 and 72.8 dB(A) at full throttle, respectively. The SAE J192 test allows for a tolerance of 2 dB(A) over the sound limit to account for variations in weather, snow conditions, and other factors.

Snowmobiles being operated on the Cave Falls road would continue to be exempt from the sound emission requirements.

Snowcoaches

The NPS would require that new and retrofitted snowcoaches not exceed 73 dB(A) when measured by operating the coach at or near full throttle for the test cycle. The NPS would require the same parameters found in the current (as of November 2012) SAE J192 sound test, except that snowcoaches would be operated at a steady speed at or near full throttle. Due to their size and weight and the challenge of testing a snowcoach at lower barometric pressure, snowcoaches may be sound tested at higher elevations near and in the park, so long as the barometric pressure is at or above 23.4 inches Hg uncorrected (as measured at or near the test site).

Both the updated snowmobile and new snowcoach sound emission requirements should reduce the impacts of oversnow vehicles on the park's soundscapes.

NPS Approved Snowmobiles and Snowcoaches

The Superintendent would maintain and annually publish a list of approved snowmobiles by make, model, and year of manufacture that meet NPS requirements. For the winter of 2010-2011, the NPS certified 65 different snowmobile models (from model years 2005-2011, and various manufacturers) as meeting the requirements. When certifying a new snowmobile as meeting NPS requirements, the NPS would also publish how long the certification applies. Generally, each snowmobile model certification would apply for six consecutive winter seasons following its manufacture. Based on NPS experience, six years represents the typical useful life of a snowmobile, and thus provides a purchaser with a reasonable length of time when operation may be allowed within the park.

The NPS would also maintain a list of approved snowcoaches that meet the air and sound emissions requirements for coaches. Since many snowcoaches are aftermarket adaptations of wheeled vehicles, the list would consist of the individual vehicles that have been approved for use. Once approved, a snowcoach may operate in the park for no more than 10 consecutive winter seasons. To continue to operate in the park, a snowcoach must then be retrofitted to meet evolving emission requirements and re-certified for sound. For example, a model year 2010 snowcoach would cease to be allowed to operate in the park as of March 15, 2020, if it is not retrofitted and re-tested. Because of the large investment in individual snowcoaches, the NPS believes that a longer duration for the certification period is appropriate, while maintaining park resource values.

Use of Commercial Guides

To mitigate impacts to wildlife, air quality, natural soundscapes, and visitor and employee safety, the NPS is proposing to continue that all recreational OSVs operating in the park be accompanied by a commercial guide, except for those operating on the segment of the Cave Falls road that extends one mile into the park from the adjacent national forest. Since the winter of 2004-2005, all snowmobilers and snowcoaches have been led by commercial guides. Commercial guides are employed by local private businesses, not by the NPS. Commercial guides have proven effective at keeping groups adhering to speed limits, staying on the groomed road surfaces, reducing conflicts with wildlife, and ensuring other behaviors that are appropriate for visitors to safely and responsibly visit the park. Commercial guides are trained in basic first aid and CPR and often carry satellite or cellular telephones, radios, and other equipment for emergency use. Since implementation of the commercial guiding requirements, Yellowstone has observed a pronounced reduction in the number of law enforcement incidents and accidents associated with the use of OSVs, even when accounting for the reduced number of snowmobilers relative to pre-guided use levels.

No more than eleven snowmobiles would be permitted in a group, including that of the guide. A snowmobile may not be operated separately from a group within the park. Except in emergency situations, guided parties must travel together and remain within one-third mile of the first snowmobile in the group. This would ensure that guided parties do not become separated. One-third mile would allow for sufficient and safe spacing between individual snowmobiles within the guided party, allow the guide(s) to maintain control over the group and minimize impacts.

NPS does not consider a minimum group size requirement necessary. As a practical matter, in recent winters group size has averaged seven snowmobiles per group.

Designated Routes

A number of changes are proposed in routes designated for OSV use based on analyses in the 2011 DEIS and experience with the management of winter use over the past six winters. All main road segments would generally remain open for OSV use, but certain side roads would be reserved for ski and snowshoe use only, and certain main road segments would be closed to all OSV travel during parts of the winter. This would provide a wider variety of motorized and non-motorized experiences for visitors.

Daily Snowmobile and Snowcoach Limits

The number of OSVs that could operate in the park at any one time would continue to be limited under this rule. However, based on observing actual use over the past six winters and combined with the goal of providing a wider range of experiences for visitors, daily limits on snowmobiles and snowcoaches would be variable at preset levels for each type of vehicle. A schedule would be established one full year ahead of the forthcoming winter season (for example, by December 1, 2012 for the 2013-2014 winter). These limits are also intended to mitigate impacts to air quality, employee and visitor health and safety, natural soundscapes, wildlife, and visitor experience. The daily entry limits for snowmobiles and snowcoaches are identified in Table 1. These limits would be based on four different use levels, as described in the table. Use limits identified in Table 1 include guides since commercial guides are counted towards the daily limits. Approximately one-half of the days would be at use level A; approximately one-third of the days would be at use level B; and approximately one-sixth of the days would be at use levels C or D. The Superintendent may vary the schedule annually based on factors including visitor use and experience and adaptive management considerations. Daily entrance allocations not able to be used due to resource or weather concerns or closures will be lost, and will not be rolled into other days.

The proposed rule specifically identifies limits for Old Faithful since a park concessioner provides snowmobile rentals and commercial guiding services originating there. For example, some visitors choose to enter the park on a snowcoach tour, spend two or more nights at the Old Faithful Snow Lodge, and go on a commercially guided snowmobile tour of the park.

Table 1—Yellowstone Daily Snowmobile and Snowcoach Entry Limits *
Park entrance/location | Level A: Commercially guided snowmobiles | Level A: Commercially guided snowcoaches | Level B: Commercially guided snowmobiles | Level B: Commercially guided snowcoaches | Level C: Commercially guided snowmobiles | Level C: Commercially guided snowcoaches | Level D: Commercially guided snowmobiles | Level D: Commercially guided snowcoaches
(i) North Entrance † | 11 | 12 | 0-11 | 8 | 0-11 | 6 | 0-11 | 12
(ii) West Entrance | 176 | 36 | 110 | 22 | 66 | 12 | 66 | 36
(iii) South Entrance ** | 110 | 14 | 66 | 8 | 44 | 6 | 44 | 14
(iv) East Entrance † | 22 | 2 | 0-22 | 0-2 | 0-11 | 0 | 0-11 | 2
(v) Old Faithful *** | 11 | 16 | 11 | 10 | 0-11 | 6 | 0-11 | 16
(vi) Cave Falls **** | 50 | 0 | 50 | 0 | 50 | 0 | 50 | 0
Totals (without Cave Falls) | 330 | 80 | 187-220 | 48-50 | 110-143 | 30 | 110-143 | 80
* For the winter of 2011-2012 only, the following snowmobile allocations are in effect: West Entrance, 160; South Entrance, 114; East Entrance, 20; North Entrance, 12; and Old Faithful, 12. The following snowcoach allocations will apply in 2011-2012 only: West Entrance, 34; South Entrance, 13; East Entrance, 2; North Entrance, 13; and Old Faithful, 16.
** Includes portion of the John D. Rockefeller, Jr. Memorial Parkway between Flagg Ranch and South Entrance.
*** Under use levels C&D, it is anticipated that there are some days that no snowmobile entries would be allocated to Old Faithful.
**** This use occurs on a short (approximately 1-mile) segment of road and is incidental to other snowmobiling activities in the Caribou-Targhee National Forest. These users do not have to be accompanied by a guide.
† A daily entry allocation of 0 is included within ranges for the North and East entrances to reflect an early season closure for plowing at the North Entrance, and seasonal closures of the East Entrance from December 15-21 and March 2-15.

Flexible Allocations

Snowmobile and snowcoach entries may be cooperatively shared among commercial guides and among entrances. For example, a guide from West Entrance who has additional allocations available may share those allocations with a South Entrance guide. This sharing would allow as much flexibility as possible while ensuring that the numbers of snowmobiles and snowcoaches operating in the park do not exceed the total number authorized for that day at any one time. NPS envisions that a system for sharing allocations would be created and controlled by those guides and outfitters who receive entrance allocations under this plan, and could require notification when allocations are shared.

Avalanche Management—Sylvan Pass

Sylvan Pass would be open under the proposed rule for oversnow travel (both motorized and non-motorized) for a limited core season, from December 22 through March 1 each year, subject to weather-related closures, and NPS fiscal, staff, infrastructural, equipment, and other safety-related capacities. A combination of avalanche mitigation techniques may be used, including risk assessment analyses as well as forecasting and helicopter and howitzer-dispensed explosives. Area staff may use whichever tool is the safest and most appropriate for a given situation, with the full understanding that safety of employees and visitors comes first. Employees in the field make the operational determination when safety criteria have been met, and operations can be conducted with acceptable levels of risk. When safety criteria have been met, the pass may be opened; when they have not been met, the pass will remain closed. As with past winters, extended closures of the pass may occur.

Avalanche control at Sylvan Pass has long represented a safety concern to the NPS. The 2000 FEIS, 2003 SEIS, 2004 EA, 2007 FEIS and the 2008 EA all clearly identify the significant avalanche danger on Sylvan Pass. Approximately 20 avalanche paths cross the road at Sylvan Pass, thus putting travelers at risk of being caught in an avalanche. NPS employees must cross several uncontrolled avalanche paths to reach the howitzer used for discharging avalanches. The howitzer is at the base of a cliff prone to both rock-fall and additional avalanche activity (the howitzer cannot be moved without compromising its ability to reach all avalanche zones). Artillery shells sometimes fail to explode on impact, and unexploded rounds remain on the slopes, presenting year-round hazards to both employees and visitors, both in the park and the Shoshone National Forest. Natural avalanches can and do occur, both before and after howitzer use. Using a helicopter instead of a howitzer also is a high-risk activity because of other risks a helicopter contractor would have to incur. Safety evaluations of Sylvan Pass by the Occupational Health and Safety Administration (OSHA) and an Operational Risk Management Assessment (ORMA) have been reviewed and updated and included in the analysis of impacts in the 2011 DEIS.

This approach, which implements a 2008 agreement, both addresses the concerns of the communities and the NPS. The City of Cody, Wyoming, as well as Park County, Wyoming, and the State of Wyoming have expressed their belief in the importance of this route to the community and have described the historical relationship between Cody and the park's East Entrance. The state, county, and city believe that businesses near the East Entrance have been negatively impacted in recent years by the changing patterns of winter visitation and have expressed their concern that these businesses would continue to be adversely affected if the pass is closed to oversnow vehicle travel in the winter. The community and businesses have also stated the value they place on the certainty of the road being open in the winter and the importance of that certainty to their businesses and guests. NPS acknowledges those values and concerns and has carefully weighed those considerations.

From March 2 to March 15, the NPS would maintain a road segment, not prone to avalanche danger, from the East Entrance to a point approximately four miles west of the entrance station, to provide for opportunities for cross-country skiing and snowshoeing. Limited snowcoach use would be allowed in order to provide drop-offs for such purposes.

Section-by-Section Analysis

Section 7.13(l)(1) What is the scope of this regulation?

The regulations apply to the use of recreational snowcoaches and snowmobiles. Except where indicated, the regulations do not apply to non-administrative oversnow vehicle use by NPS employees, contractors, concessioner employees, or other non-recreational users authorized by the Superintendent.

Section 7.13(l)(2) What terms do I need to know?

The NPS has included definitions for a variety of terms, including oversnow vehicle, designated oversnow route, and commercial guides. For snowmobiles, NPS is continuing to use the definition found at 36 CFR 1.4, but has also included language that makes it clear that all-terrain vehicles (ATVs) and utility-type vehicles (UTVs) are not snowmobiles, even if they have been adapted for use on snow with track and ski systems. These vehicles were not originally designed to operate oversnow and may not meet NPS air and sound emission requirements.

Yellowstone's oversnow routes remain entirely on roads used by motor vehicles during other seasons and thus are consistent with the requirements in 36 CFR 2.18. Earlier regulations also referred only to snowmobiles or snowcoaches. Since there is a strong likelihood that new forms of oversnow motorized vehicles will be developed in the future that can travel on snow, a definition for “oversnow vehicle” was developed to ensure that any such new technology is subject to this regulation. When a particular requirement or restriction only applies to a certain type of oversnow vehicle, the specific vehicle is stated and the restriction only applies to that type of vehicle, not all oversnow vehicles. However, oversnow vehicles that do not meet the strict definition of a snowcoach (i.e., both weight and passenger capacity) would be subject to the same requirements as snowmobiles. These definitions may be clarified in future rulemakings based on changes in technology.

In earlier regulations, NPS specified a size and weight limit for snowcoaches. As the number of larger and heavier snowcoaches has increased, the NPS has observed serious rutting of the groomed road surface caused by heavier coaches. Rutting creates safety issues for other coaches and snowmobiles using the oversnow routes. To address this issue, the proposed rule would also establish a pounds-per-square-inch limit for coaches.

Section 7.13(l)(3) May I operate a snowmobile in Yellowstone National Park?

The proposed rule would continue to authorize operation of a snowmobile within the park, subject to use limits, commercial guiding requirements, operating hours and dates, equipment requirements, and operating conditions established in this section. Snowmobile and snowcoach use between Flagg Ranch and the South Entrance of Yellowstone occurs in the John D. Rockefeller, Jr. Memorial Parkway, and is addressed in regulations pertaining to that unit of the national park system, 36 CFR 7.21(a), except that the daily entry limits for that use are addressed by this rule. Once any such OSVs enter Yellowstone, they are also subject to the other terms and conditions of this proposed rule.

Section 7.13(l)(4) May I operate a snowcoach in Yellowstone National Park?

This proposed rule would continue the authorized operation of snowcoaches in the park. It would require that they be commercially operated under a concessions contract, and that they are subject to the applicable air and sound emission technology requirements for snowcoach operations. Through March 15, 2014, the NPS also proposes to continue the requirement that all non-historic snowcoaches meet the applicable EPA air emissions standards that were in effect at the time the vehicle was manufactured. As of December 15, 2014, all snowcoaches must meet the then applicable NPS air and sound emission requirements.

Section 7.13(l)(5) Must I operate a certain model of snowmobile?

The proposed rule would continue the requirement that only commercially available snowmobiles that meet NPS air and sound emissions requirements may be operated in the park.

Section 7.13(l)(6) How will the Superintendent approve snowmobile makes, models, and year of manufacture for use in the park?

Snowmobiles must be certified under 40 CFR 1051 to a FEL no greater than a total of 15 g/kW-hr for HC and a FEL of no greater than 120 g/kW-hr for CO.

Section 7.13(l)(7) Where may I operate a snowmobile in Yellowstone National Park?

Specific routes are listed where snowmobiles may be operated, but the proposed rule also provides latitude for the Superintendent to close and re-open routes when necessary. When determining what routes are available for use, the Superintendent would use the criteria in 36 CFR 2.18(c), and may also take other issues into consideration including weather and snow conditions, public safety, protection of park resources, and other factors.

Section 7.13(l)(8) What routes are designated for snowcoach use?

Snowcoaches may be operated on the specific routes open to snowmobile use. In addition, rubber-tracked snowcoaches may be operated in the Mammoth developed area. This proposed rule also provides latitude for the Superintendent to close and re-open routes when necessary. When determining what routes are available for use, the Superintendent would use the criteria in 36 CFR 2.18(c), and may also take other issues into consideration, including weather and snow conditions, public safety, protection of park resources, and other factors.

Section 7.13(l)(9) Must I travel with a commercial guide while snowmobiling in Yellowstone and what other guiding requirements apply?

The proposed rule retains the existing requirement that all recreational snowmobile operators be accompanied by a commercial guide. As in the interim regulations, parties must travel in groups of no more than eleven snowmobiles including that of the guide. The proposed rule adds the requirement that guided parties must travel together and not be separated by more than one third of mile from the first snowmobile in the group in order to ensure groups stay together.

Section 7.13(l)(10) Are there limits established for the numbers of snowmobiles and snowcoaches permitted to operate in the park each day?

The proposed rule allows varying numbers of snowmobiles and snowcoaches in the park each day over the course of the winter use season. There are four different levels of use (all limits indicate the maximum number of oversnow vehicles that could operate in the park at any one time): Level A, up to 330 snowmobiles and up to 80 snowcoaches; Level B, between 187 and 220 snowmobiles and between 48 and 50 snowcoaches; Level C, between 110 and 143 snowmobiles and 30 snowcoaches; and Level D, between 110 to 143 snowmobiles and 80 snowcoaches. Approximately one-half of the days would be at use level A; approximately one-third of the days would be at use level B; and approximately one-sixth of the days would be at use levels C or D. The levels of use to be allowed for each day of the winter use season would be according to a pre-set schedule that would be issued by the Superintendent one full winter in advance (for example, by December 1, 2012 for the 2013-2014 winter season). The Superintendent may vary the schedule annually based on factors including visitor use and experience and adaptive management considerations. The NPS expects to issue new concessions contracts for combined snowmobile and snowcoach guiding to facilitate the implementation of this section. For those limits that are set as ranges, flexibility is provided to accommodate different opening and closing dates of entrances.

Section 7.13(l)(11) How will I know when I can operate a snowmobile or snowcoach in the park?

The proposed rule would not change the methods the Superintendent would use to determine operating hours and dates. In the past the, the Superintendent has set the opening and closing hours at 7 a.m. and 9 p.m. respectively. Early and late entries were granted on a case-by-case basis. The proposed rule allows the Superintendent to manage operating hours, dates and use levels with public notice provided through one or more methods listed in 36 CFR 1.7(a). These methods could include signs, maps, public notices, or other publications. Except for emergency situations, any changes to operating hours, dates and use levels will be made on an annual basis. Initially the Superintendent intends to set the operating hours as 6 a.m. to 9 p.m. with no early entries or late exits allowed except for emergencies. In addition, all OSVs would be required to enter the park by 10:30 a.m. This will assist in meeting soundscape goals to provide longer periods free of oversnow vehicle sounds.

Section 7.13(l)(12) What other conditions apply to the operation of oversnow vehicles?

The proposed rule includes requirements regarding the operation of oversnow vehicles in the park, such as driver's license and registration requirements, operating procedures, requirements for headlights, brakes and other safety equipment, length of idling time, towing of sleds, and other requirements related to safety and resource impacts. No changes are being proposed from the previous regulations.

Section 7.13(l)(13) What conditions apply to alcohol use while operating an oversnow vehicle?

The proposed rule does not change the conditions applicable to the use of alcohol while operating oversnow vehicles. Although the regulations in 36 CFR 4.23 apply to oversnow vehicles, a provision was included in the 2004 regulations to address the issues of under-age drinking while operating a snowmobile and snowcoach operators or snowmobile guides operating under the influence while performing services for others. Many states have adopted similar alcohol standards for under-age operators and commercial drivers, and the NPS feels it is necessary to specifically include these regulations to help mitigate potential safety concerns.

The alcohol level for minors (anyone under the age of 21) is set at .02 Blood Alcohol Content (BAC). Although the NPS endorses “zero tolerance,” a very low BAC is established to avoid a chance of a false reading. Mothers Against Drunk Driving and many other organizations have endorsed such a general enforcement posture and the NPS agrees that under-age drinking and driving, particularly in a harsh winter environment, should not be allowed.

In the case of snowcoach operators or snowmobile guides, a low BAC limit is also necessary. Persons operating a snowcoach are likely to be carrying 8 or more passengers in a vehicle with tracks or skis that is more challenging to operate than a wheeled vehicle, and on oversnow routes that can present significant hazards, especially if the driver has impaired judgment. Similarly, persons guiding others on a snowmobile have put themselves in a position of responsibility for the safety of other visitors and for minimizing impacts to park wildlife and other resources. Should the guide's judgment be impaired, hazards such as wildlife on the road or snow-obscured features could endanger all members of the group in an unforgiving climate. For these reasons, the proposed rule would continue to require that all guides be held to a stricter than normal standard for alcohol consumption. Therefore, the proposed rule continues a BAC limit of .04 for snowcoach operators and snowmobile guides. This is consistent with federal and state rules pertaining to BAC thresholds for someone with a commercial driver's license.

Section 7.13(l)(14) Do other NPS regulations apply to the use of oversnow vehicles?

The proposed rule does not change the applicability of other NPS regulations concerning oversnow vehicle use. Relevant portions of 36 CFR 2.18, including § 2.18(c), have been incorporated within these proposed regulations. Some portions of 36 CFR 2.18 and 2.19 are superseded by these proposed regulations, which govern maximum operating decibels, operating hours, and operator age in this park only. In addition, 36 CFR 2.18(b) would not apply in Yellowstone. The proposed rule also supersedes 36 CFR 2.19(b) in that it prohibits the towing of persons on skis, sleds, or other sliding devices by motor vehicle or snowmobile, except in emergency situations. Towing people, especially children, is a potential safety hazard and health risk due to road conditions, traffic volumes, and direct exposure to snowmobile emissions. This rule does not affect supply sleds attached by a rigid device or hitch pulled directly behind snowmobiles or other oversnow vehicles as long as no person or animal is hauled on them. Other provisions of 36 CFR Chapter I continue to apply to the operation of oversnow vehicles unless specifically excluded here.

Section 7.13(l)(15) Are there any forms of non-motorized oversnow transportation allowed in the park?

Non-motorized travel consisting of skiing, skating, snowshoeing, and walking is generally permitted. The park has specifically prohibited dog sledding and ski-joring (the practice of a skier being pulled by dogs, a horse, or a vehicle) to prevent disturbance or harassment to wildlife and for visitor safety. These restrictions have been in place for several years and would be reaffirmed under these regulations. In addition, the park has carefully reviewed new proposals to allow use of “snowbikes” (bicycles that have been modified to allow travel on packed snow routes). In past winter plans and regulations, the NPS has prohibited snowbikes. In earlier reviews, the NPS believed the addition of snowbikes on the groomed oversnow routes had the potential to create conflicts with snowmobile and snowcoach groups, as well as with crosscountry skiers, snowshoers and walkers who are currently allowed on the oversnow routes. The NPS concluded that safety issues could develop with this type of use. For example, snowbikes depend on packed, groomed surfaces. Heavy snow falls and rapidly warming conditions have the potential to create conditions in which travel by snowbikes is impossible after they have already travelled miles into the park. In this planning process, new requests were made to authorize snowbikes. The NPS has reviewed these requests and past analysis, and this proposed rule would continue the ban on use of snowbikes.

Section 7.13(l)(16) May I operate a snowplane in Yellowstone National Park?

Snowplanes are not allowed to be used in Yellowstone National Park.

Section 7.13(l)(17) Is violating any of the provisions of this section prohibited?

Violating any of the terms, conditions or requirements of paragraphs (l)(1) through (l)(16) of this section is prohibited.

Summary of Economic Analysis

Introduction

The NPS conducted an economic analysis of the different regulatory alternatives for a winter use plan in Yellowstone National Park (see RTI International, “Economic Analysis of Winter Use Regulations in Yellowstone National Park,” 2011). That analysis is summarized here. In that analysis, the definition of “baseline” is critical since all costs and benefits associated with the different alternatives are calculated incrementally from the baseline. According to OMB Circular A-4, baseline describes the conditions that would exist if the proposed regulatory action is not implemented. Alternative 1 represents those baseline conditions. This is referred to as “Baseline 1” in the economic analysis report. The 2009 interim regulation expired in March 2011 at the close of the 2010/2011 winter season. Therefore, no regulation is currently in place to permit OSV use by visitors. If no action is taken, administrative OSV use will continue as needed, as described under Alternative 1, but there would be no commercial or visitor use of snowmobiles or snowcoaches. Under this definition of baseline, the analysis presents the incremental costs and benefits of Alternatives 2 though 7 as compared to Baseline 1. However, since this definition of baseline reflects a situation that has never actually occurred, another definition of baseline that reflects the recent conditions actually experienced by the public might be useful to understand the impacts of the alternatives. Alternative 2 represents this other baseline. This is referred to as Baseline 2 in the economic analysis report. Under Baseline 2, OSV use would continue at levels described in the 2009 interim regulation—up to 318 snowmobiles and up to 78 snowcoaches per day. Therefore, under this definition of baseline, the analysis presents the incremental costs and benefits of Alternatives 1 and 3 through 7 as compared to the Baseline 2.

The other alternatives include Alternatives 3 through 7. Under Alternative 3, permitted OSV use would return to the 2004 plan limits—up to 720 snowmobiles and 78 snowcoaches per day. Under Alternative 4, no more than 100 commercial wheeled vehicles such as buses (North and West Entrances), 110 snowmobiles and 30 snowcoaches (South Entrance) would have access to the park. The East Entrance would be closed to through travel for OSVs, but remain open for non-motorized use. Under Alternative 5, access to the park would eventually be by Best Available Technology (BAT) snowcoaches only. This would be accomplished by phasing out snowmobiles beginning in the 2014/2015 winter season. Snowcoaches would replace snowmobiles within a five-year period (at the park's discretion or depending on coach user demand). Under Alternative 6, OSV levels would vary by creating times and places for higher and lower levels of use, with 32,000 snowmobiles and 4,600 snowcoaches permitted each winter season. Daily snowmobile entries could vary between none and 540, and snowcoaches could vary between none and 78. Snowmobile trips would be mostly guided, with up to 25 percent of snowmobile use unguided or non-commercially guided. Finally, under Alternative 7, which is the preferred alternative, four different daily limits for OSV use would be established. Snowmobile limits would range from 110 to 330 per day for a maximum of 23,122 for the season. Snowcoach limits would range from 30 to 80 per day for a maximum of 5,730 for the season. These alternatives are more fully described in the DEIS, available at http://parkplanning.nps.gov/yell.

The purpose for estimating these benefits and costs is to examine the extent to which each action alternative addresses the need for the proposed regulation. This regulation is needed to correct certain “market failures” associated with winter use in the park. A market failure occurs when park resources and uses are not allocated in an economically efficient manner. For winter use in the park, market failures can occur as a result of “externalities.” An externality exists when the actions of some individuals impose uncompensated impacts on others. For example, snowmobile users, and to a lesser extent, snowcoach users, impose costs on other park visitors in the form of noise, air pollution, congestion, and health and safety risks. Because these costs are not compensated, both types of users have little or no incentive to adjust their behavior accordingly. The proposed regulation is needed to correct this situation.

The quantitative results of this analysis are summarized below. It is important to note that this analysis could not account for all costs or benefits due to limitations in available data. For example, the costs associated with adverse impacts to park resources such as wildlife, and with law enforcement incidents are not reflected in the quantified net benefits presented in this summary. It is also important to note that this analysis addresses the economic efficiency implications of the different action alternatives and not their distributive equity (i.e., it does not identify the sectors or groups on which the majority of impacts fall). Therefore, additional explanation is required when interpreting the quantitative results of this analysis. An explanation of the selection of the preferred alternative is presented following the summary of quantified benefits and costs.

Quantified Benefits and Costs Under Baseline 1

This section summarizes the economic analysis relative to Baseline 1. Costs refer to costs to society (or losses in social welfare) while benefits refer to benefits for society (or gains in social welfare). The analysis of costs and benefits critically depends on estimates of visitation for the different user groups. While significant information is available from past visitation records and visitor surveys, a degree of uncertainty exists about how these visitation levels might change in the future under the six action alternatives. In this analysis, a modeling approach was used to characterize uncertainty and to estimate expected levels of visitation. That approach involves specifying probability distributions of key visitation parameters, and then sampling from those distributions in order to estimate visitation levels. By taking multiple samples, measures of central tendency for visitation can be calculated that reflect the uncertainty in the available data. This analysis used 1,000 samples, which were adequate to calculate expected levels of visitation. Those expected visitation levels were then used to estimate the benefits and costs described below for the six action alternatives.

Alternative 4 has the highest level of quantified net benefits (benefits minus costs). That is because this alternative would result in the largest increase in overall visitation due to its inclusion of commercial bus trips. That increased visitation would primarily benefit visitors that access the parks by wheeled vehicles such as buses, and the businesses that serve them, including restaurants, gas stations, and hotels.

The next highest net benefits are for Alternatives 5 and 7. The largest benefits under Alternative 5 start in the 2018/2019 winter season, when the transition to snowcoach-only is expected to be complete—other visitors gain high benefits from being in the park without snowmobiles. Alternative 7 allows guided snowmobile tours and imposes varying daily caps on snowmobiles and snowcoaches throughout the season to create days when crowding will be very low. Alternative 6 has the lowest net benefits, in part because higher crowding lowers the value of all trips. These net benefit levels over the ten-year analysis period for winter seasons 2011/2012 through 2020/2021 are presented in Table 1 for all action alternatives. Table 2 presents quantified net benefits per year for the same analysis period.

Table 1—Total Present Value of Quantified Net Benefits Relative to Baseline 1, Yellowstone National Park, 2011/2012 Through 2020/2021
| Total present value of quantified net benefits ᵃ
Alternative 2:
Discounted at 3% ᵇ | $50,188,000
Discounted at 7% ᵇ | 41,451,000
Alternative 3:
Discounted at 3% ᵇ | 55,466,000
Discounted at 7% ᵇ | 45,468,000
Alternative 4:
Discounted at 3% ᵇ | 184,377,000
Discounted at 7% ᵇ | 151,569,000
Alternative 5:
Discounted at 3% ᵇ | 107,975,000
Discounted at 7% ᵇ | 85,015,000
Alternative 6:
Discounted at 3% ᵇ | −874,000
Discounted at 7% ᵇ | −451,000
Alternative 7:
Discounted at 3% ᵇ | 78,132,000
Discounted at 7% ᵇ | 64,531,000
ᵃ Expressed in 2010 dollars.
ᵇ Office of Management and Budget Circular A-4 recommends a 7% discount rate in general, and a 3% discount rate when analyzing impacts to private consumption.
Source: Table 3-12, RTI International (2011).

Table 2—Quantified Net Benefits per Year Relative to Baseline 1, Yellowstone National Park, 2011/2012 Through 2020/2021
| Quantified net benefits per year ᵃ
Alternative 2:
Discounted at 3% ᵇ | $5,884,000
Discounted at 7% ᵇ | 5,902,000
Alternative 3:
Discounted at 3% ᵇ | 6,502,000
Discounted at 7% ᵇ | 6,474,000
Alternative 4:
Discounted at 3% ᵇ | 21,615,000
Discounted at 7% ᵇ | 21,580,000
Alternative 5:
Discounted at 3% ᵇ | 12,658,000
Discounted at 7% ᵇ | 12,104,000
Alternative 6:
Discounted at 3% ᵇ | −102,000
Discounted at 7% ᵇ | −64,000
Alternative 7:
Discounted at 3% ᵇ | 9,159,000
Discounted at 7% ᵇ | 9,188,000
ᵃ This is the total present value of quantified net benefits reported in Table 1 amortized over the ten-year analysis timeframe at the indicated discount rate.
ᵇ Office of Management and Budget Circular A-4 recommends a 7% discount rate in general, and a 3% discount rate when analyzing impacts to private consumption.
Source: Table 3-13, RTI International (2011).

Not included in these quantified net benefit estimates are the costs of meeting EPA model year 2010 air emission requirements. These requirements could involve replacing engine and/or emission control systems so that the vehicles are in compliance, or purchasing 2010 or newer model year vehicles. Snowcoaches would also need to meet a sound emission requirement that is similar to the snowmobile sound emission requirement. Under all action alternatives except Alternative 4, between 78 and 80 snowcoaches per day would be allowed to operate in the park. Given the composition of the existing snowcoach fleet, NPS estimated that the cost to bring 80 snowcoaches into compliance with these requirements would be approximately $5,090,000. This cost would be less for Alternative 4 since only 30 snowcoaches per day would be allowed into the park.

Quantified Benefits and Costs Under Baseline 2

This section summarizes the economic analysis relative to Baseline 2. Costs and benefits in this analysis are calculated using the same methods described for the analysis using Baseline 1. However in this analysis, the incremental costs and benefits of Alternatives 1 and 3 through 7 are calculated relative to Baseline 2.

Under this scenario, Alternative 4 generates the highest quantified net benefits. Alternative 5 generates the second highest net benefits, due in large part to the gains to snowcoach passengers and other visitors starting in the 2018/2019 winter season when the transition to snowcoach-only is expected to be complete. Alternative 7 generates the third highest level of quantified net benefits. These net benefit levels over the ten-year analysis period for winter seasons 2011/2012 through 2020/2021 are presented in Table 3 for all action alternatives. Table 4 presents quantified net benefits per year for the same analysis period.

Table 3—Total Present Value of Quantified Net Benefits Relative to Baseline 2, Yellowstone National Park, 2011/2012 Through 2020/2021
| Total present value of quantified net benefits ᵃ
Alternative 1:
Discounted at 3% ᵇ | −$50,188,000
Discounted at 7% ᵇ | −41,451,000
Alternative 3:
Discounted at 3% ᵇ | 5,278,000
Discounted at 7% ᵇ | 4,017,000
Alternative 4:
Discounted at 3% ᵇ | 134,190,000
Discounted at 7% ᵇ | 110,118,000
Alternative 5:
Discounted at 3% ᵇ | 57,787,000
Discounted at 7% ᵇ | 43,564,000
Alternative 6:
Discounted at 3% ᵇ | −51,062,000
Discounted at 7% ᵇ | −41,902,000
Alternative 7:
Discounted at 3% ᵇ | 27,945,000
Discounted at 7% ᵇ | 23,080,000
ᵃ Expressed in 2010 dollars.
ᵇ Office of Management and Budget Circular A-4 recommends a 7% discount rate in general, and a 3% discount rate when analyzing impacts to private consumption.
Source: Table 4-2, RTI International (2011).

Table 4—Quantified Net Benefits per Year Relative to Baseline 2, Yellowstone National Park, 2011/2012 Through 2020/2021
| Quantified net benefits per year ᵃ
Alternative 1:
Discounted at 3% ᵇ | −$5,884,000
Discounted at 7% ᵇ | −5,902,000
Alternative 3:
Discounted at 3% ᵇ | 619,000
Discounted at 7% ᵇ | 572,000
Alternative 4:
Discounted at 3% ᵇ | 15,731,000
Discounted at 7% ᵇ | 15,678,000
Alternative 5:
Discounted at 3% ᵇ | 6,774,000
Discounted at 7% ᵇ | 6,203,000
Alternative 6:
Discounted at 3% ᵇ | −5,986,000
Discounted at 7% ᵇ | −5,966,000
Alternative 7:
Discounted at 3% ᵇ | 3,276,000
Discounted at 7% ᵇ | 3,286,000
ᵃ This is the total present value of quantified net benefits reported in Table 1 amortized over the ten-year analysis timeframe at the indicated discount rate.
ᵇ Office of Management and Budget Circular A-4 recommends a 7% discount rate in general, and a 3% discount rate when analyzing impacts to private consumption.
Source: Table 4-3, RTI International (2011).

Not included in these quantified net benefit estimates are the costs of meeting EPA model year 2010 air emission requirements. These requirements could involve replacing engine and/or emission control systems so that the vehicles are in compliance, or purchasing 2010 or newer model year vehicles. Snowcoaches would also need to meet a sound emission requirement that is similar to the snowmobile sound emission requirement. Under all action alternatives except Alternatives 1 and 4, between 78 and 80 snowcoaches per day would be allowed to operate in the park. Given the composition of the existing snowcoach fleet, NPS estimated that the cost to bring 80 snowcoaches into compliance with these requirements would be approximately $5,090,000. This cost would be less for Alternative 4 since only 30 snowcoaches per day would be allowed into the park. This cost would be zero for Alternative 1 since snowcoach use would not be permitted in the park.

Interpretation of Quantified Benefits and Costs

Comparing Table 1 with Table 3, the ranking of Alternatives 3 through 7 by the magnitude of quantified net benefits is identical between the analyses using either baseline. NPS selected Alternative 7 as the preferred alternative; however, Alternatives 4 and 5 each have higher levels of quantified net benefits in each analysis. Additional factors that are relevant in the selection of the preferred alternative include costs and benefits that could not be quantified and distributive equity concerns. With respect to costs that could not be quantified, Alternative 4 involves road plowing operations and moderate, adverse visibility impacts due to road sanding operations, neither of which were quantified in terms of monetized costs. While those costs would be offset somewhat by the reduced cost to bring snowcoaches into compliance with air and sound emission requirements compared to the other alternatives that permit snowcoach use in the park, the road plowing operations would likely reduce the quantified net benefits of Alternative 4 relative to those of Alternative 7. With respect to distributive equity concerns, Alternative 7 better balances the visitor experiences of all visitor groups compared with Alternatives 4 and 5. The costs and benefits accruing to the different visitor groups are more evenly distributed in Alternative 7 than in Alternatives 4 and 5. The benefits of Alternative 5 are disproportionately associated with snowcoach riders. The benefits to snowmobile riders in Alternative 4 will be concentrated on riders who have access to the South Entrance. Finally, the lack of any historical precedent for plowing roads and allowing commercial bus tours during the winter leads to large uncertainties as to the magnitude of the benefits associated with Alternative 4. For these reasons, NPS selected Alternative 7 as the preferred alternative.

Explanation of Preferred Alternative

The preferred alternative in the 2011 DEIS provides for winter use while protecting park resources. The preferred alternative demonstrates the NPS commitment to monitor winter use and to use the results to adjust the winter use program. The results of the monitoring program, including data obtained regarding air quality, wildlife, soundscapes, and health and safety, were used in formulating the alternatives in the 2011 DEIS. The preferred alternative applies the lessons of the last several winters about commercial guiding, which demonstrate, among other things, that 100% commercial guiding has been very successful and offers the best opportunity for achieving goals of protecting park resources and allowing balanced use of the park. Law enforcement incidents have been reduced well below historic numbers, even after taking into account reduced visitation. That reduction is attributed to the quality of the guided program.

The preferred alternative uses strictly limited oversnow vehicle numbers, combined with air and sound emission requirements and 100% commercial guiding, to help ensure that the purpose and need for the DEIS is met.

The preferred alternative also supports the communities and businesses both near and far from the park and would encourage them to have an economically sustainable winter recreation program that relies on a variety of modes for access to the park in the winter. Peak snowmobile numbers allowed under the preferred alternative are well below the historic averages, but the snowmobile and snowcoach limits should provide a viable program for winter access to the park.

Compliance With Other Laws and Executive Orders

Regulatory Planning and Review (Executive Order 12866)

This document is a significant rule and the Office of Management and Budget has reviewed this rule under Executive Order 12866.

(1) This rule will not have an effect of $100 million or more on the economy. It will not adversely affect in a material way the economy, productivity, competition, jobs, the environment, public health or safety, or state, local, or tribal governments or communities. These conclusions are based on the report “Economic Analysis of Winter Use Regulations in Yellowstone National Park” (RTI International, 2011).

(2) This rule will not create a serious inconsistency or otherwise interfere with an action taken or planned by another agency. Implementing actions under this rule will not interfere with plans by other agencies or local government plans, policies, or controls since this is an agency specific change.

(3) This rule does not alter the budgetary effects of entitlements, grants, user fees, or loan programs or the rights or obligations of their recipients. It only affects the use of oversnow vehicles within Yellowstone National Park. No grants or other forms of monetary supplement are involved.

(4) This rule may raise novel legal or policy issues. The issue has generated local as well as national interest on the subject in the area surrounding Yellowstone National Park. NPS has been the subject of numerous lawsuits regarding winter use management in the park. See Winter use in Yellowstone: A Timeline, available at http://www.nps.gov/yell/parkmgmt/timeline.htm.

Regulatory Flexibility Act (RFA)

From the analysis of costs and benefits using Baseline 1, NPS concludes that the action alternatives would mitigate the impacts on most small businesses relative to the impacts under Baseline 1. In cases where the action alternatives cause reduced revenues for a few specific firms compared to Baseline 1, NPS expects that the declines would be very small. From the analysis using Baseline 2, NPS concludes:

• Relative to Baseline 2, Alternatives 3, 5, and 6 are estimated to result in increased profits for the snowmobile rental and snowcoach sectors.

• Alternative 1 has the potential to generate significant losses for small businesses.

• Alternative 4 also has the potential to generate significant losses, but if the same companies run commercial bus tours revenue should grow rather than shrink.

• Alternative 7 may impose significant losses on very small businesses earning $250,000 or less, although the impacts are close to the threshold for significance. The calculations assume that the impacts are equally spread across all businesses.

An initial regulatory flexibility analysis is included in the report titled “Economic Analysis of Winter Use Regulations in Yellowstone National Park” (RTI International, 2011).

Small Business Regulatory Enforcement Fairness Act (SBREFA)

This rule is not a major rule under 5 U.S.C. 804(2), the SBREFA. This rule:

(a) Does not have an annual effect on the economy of $100 million or more.

(b) Will not cause a major increase in costs or prices for consumers, individual industries, Federal, state, or local government agencies, or geographic regions.

(c) Does not have significant adverse effects on competition, employment, investment, productivity, innovation, or the ability of U.S.-based enterprises to compete with foreign-based enterprises. This rulemaking has no effect on methods of manufacturing or production and specifically affects the Greater Yellowstone Area, not national or U.S.-based enterprises.

Unfunded Mandates Reform Act (UMRA)

This rule does not impose an unfunded mandate on State, local, or tribal governments or the private sector of more than $100 million per year. The rule does not have a significant or unique effect on State, local or tribal governments or the private sector. It addresses public use of national park lands, and imposes no requirements on other agencies or governments.

Takings (Executive Order 12630)

Under the criteria in Executive Order 12630, the rule does not have significant takings implications. Access to private property located adjacent to the park will be afforded the same access during winter as before this rule. No other property is affected. A takings implication assessment is not required.

Federalism (Executive Order 13132)

In accordance with Executive Order 13132, the rule does not have sufficient federalism implications to warrant the preparation of a Federalism Assessment. It addresses public use of national park lands, and imposes no requirements on other agencies or governments.

Civil Justice Reform (Executive Order 12988)

This rule complies with the requirements of Executive Order 12988. Specifically, this rule:

(a) Meets the criteria of section 3(a) requiring that all regulations be reviewed to eliminate errors and ambiguity and be written to minimize litigation; and

(b) Meets the criteria of section 3(b)(2) requiring that all regulations be written in clear language and contain clear legal standards.

Consultation With Indian Tribes (Executive Order 13175)

Under the criteria in Executive Order 13175 we have evaluated this rule and determined that it has no potential effects on federally recognized Indian tribes. Numerous tribes in the area were consulted in the development of the previous winter use planning documents.

Paperwork Reduction Act (PRA)

This rule does not contain information collection requirements and a submission under the PRA is not required.

National Environmental Policy Act (NEPA)

This winter use plan and rule constitute a major Federal action significantly affecting the quality of the human environment. We have prepared a DEIS under the NEPA. The DEIS is available for review by contacting the Yellowstone National Park Management Assistant's Offices, at http://parkplanning.nps.gov or at http://www.nps.gov/yell/planyourvisit/winteruse.htm. Comments are being solicited separately for the DEIS and this proposed rule. See the Public Participation section for more information on how to comment on the DEIS.

Information Quality Act (IQA)

In developing this rule we did not conduct or use a study, experiment, or survey requiring peer review under the IQA (Pub. L. 106-554, section 15).

Effects on the Energy Supply (Executive Order 13211)

This rule is not a significant energy action under the definition in Executive Order 13211. A statement of Energy Effects is not required.

Clarity of This Regulation

We are required by Executive Orders 12866 and 12988 and by the Presidential Memorandum of June 1, 1998, to write all rules in plain language. This means that each rule we publish must:

(a) Be logically organized;

(b) Use the active voice to address readers directly;

(c) Use clear language rather than jargon;

(d) Be divided into short sections and sentences; and

(e) Use lists and tables wherever possible.

If you believe we have not met these requirements, send us comments by one of the methods listed in the ADDRESSES section. To better help us revise the rule, your comments should be as specific as possible. For example, you should tell us the numbers of the sections or paragraphs that you find unclear, which sections or sentences are too long, the sections where you believe lists or tables would be useful, etc.

Drafting Information

The primary authors of this regulation are David Jacob, Environmental Protection Specialist, National Park Service, Environmental Quality Division, John Sacklin, Management Assistant, National Park Service, Yellowstone National Park, and Russel J. Wilson, Chief Regulations and Special Park Uses, National Park Service, Washington, DC.

Public Participation

If you wish to comment on this rule, you may submit your comments by any one of the following methods.

• Docket: For access to the electronic docket to read the proposed rule, or e-mail comments received go to the Federal eRulemaking Portal: http://www.regulations.gov. Follow the instructions for submitting comments.

• Mail: Yellowstone National Park, Winter Use Proposed Rule, P.O. Box 168, Yellowstone NP, WY 82190.

• Hand Deliver to: Management Assistant's Office, Headquarters Building, Mammoth Hot Springs, Yellowstone National Park, Wyoming.

All comments must be received by midnight of the close of the comment period. Bulk comments in any format (hard copy or electronic) submitted on behalf of others will not be accepted.

As noted previously, a DEIS is also available for public comment. Those wishing to comment on both this proposed rule and the DEIS should submit separate comments for each. Comments regarding the DEIS may be submitted online via the NPS Planning, Environment, and Public Comment Web site at http://parkplanning.nps.gov/, or they may be addressed to: Winter Use Plan DEIS, P.O. Box 168, Yellowstone National Park, WY 82190. Additional information about the DEIS is available online at: http://www.nps.gov/yell/planyourvisit/winteruse.htm.

Public Availability of Comments

Before including your address, phone number, e-mail address, or other personal identifying information in your comment, you should be aware that your entire comment including your personal identifying information may be made publicly available at any time. While you can ask us in your comment to withhold your personal identifying information from public review, we cannot guarantee that we will be able to do so.

List of Subjects in 36 CFR Part 7

National parks, Reporting and recordkeeping requirements.

In consideration of the foregoing, the National Park Service proposes to amend 36 CFR part 7 as follows:

PART 7—SPECIAL REGULATIONS, AREAS OF THE NATIONAL PARK SYSTEM

1. The authority for part 7 continues to read as follows:

Authority: 16 U.S.C. 1, 3, 9a, 460(q), 462(k); Sec. 7.96 also issued under 36 U.S.C. 501-511, D.C. Code 10-137 (2001) and D.C. Code 50-2201.07 (2001).

2. In § 7.13 revise paragraph (l) to read as follows:

§ 7.13 Yellowstone National Park.

* * * * *

(l)(1) What is the scope of this regulation? The regulations contained in paragraphs (l)(2) through (1)(16) of this section apply to the use of snowcoaches and recreational snowmobiles. Except where indicated, paragraphs (1)(2) through (l)(16) do not apply to non-administrative oversnow vehicle use by NPS employees, contractors, concessioner employees, or other non-recreational users authorized by the Superintendent.

(2) What terms do I need to know? The definitions in this paragraph (l)(2) also apply to non-administrative oversnow vehicle use by NPS employees, contractors, concessioner employees, or other non-recreational users authorized by the Superintendent.

Commercial guide means a person who operates as a snowmobile or snowcoach guide for a fee or compensation and is authorized to operate in the park under a concession contract or a commercial use authorization. In this section, “guide” also means “commercial guide.”

Historic snowcoach means a Bombardier snowcoach manufactured in 1983 or earlier. Any other snowcoach is considered a non-historic snowcoach.

Oversnow route means that portion of the unplowed roadway located between the road shoulders and designated by snow poles or other poles, ropes, fencing, or signs erected to regulate oversnow activity. Oversnow routes include pullouts or parking areas that are groomed or marked similarly to roadways and are adjacent to designated oversnow routes. An oversnow route may also be distinguished by the interior boundaries of the berm created by the packing and grooming of the unplowed roadway. The only motorized vehicles permitted on oversnow routes are oversnow vehicles.

Oversnow vehicle means a snowmobile, snowcoach, or other motorized vehicle that is intended for travel primarily on snow and has been authorized by the Superintendent to operate in the park. An oversnow vehicle that does not meet the definition of a snowcoach must comply with all requirements applicable to snowmobiles.

Snowcoach means a self-propelled mass transit vehicle intended for travel on snow, having a curb weight of over 1,000 pounds (450 kilograms), driven by a track or tracks and steered by skis or tracks, and having a capacity of at least 8 passengers. A snowcoach has a maximum size of 102 inches wide, plus tracks (not to exceed 110 inches overall); a maximum length of 35 feet; and a GVWR not exceeding 25,000 pounds. A snowcoach may not be operated if the GVWR limit of the vehicle is exceeded (including track systems). As of December 14, 2014, a snowcoach may not be operated if it exerts a ground-surface pressure (calculated by dividing the GVWR (including track weight) by the number of square inches of track in contact with the snow surface) exceeding 4.5 pounds per square inch.

Snowmobile means a self-propelled vehicle intended for travel on snow, with a curb weight of not more than 1,000 pounds (450 kg), driven by a track or tracks in contact with the snow, and which may be steered by a ski or skis in contact with the snow. All-terrain vehicles (ATVs) and utility-type vehicles (UTVs) are not considered to be snowmobiles, even if they have been adapted for use on snow with track and ski systems.

Snowplane means a self-propelled vehicle intended for oversnow travel and driven by an air-displacing propeller.

(3) May I operate a snowmobile in Yellowstone National Park? You may operate a snowmobile in Yellowstone National Park in compliance with use limits, guiding requirements, operating hours and dates, equipment, and operating conditions established under this section. The Superintendent may establish additional operating conditions after providing notice of those conditions in accordance with one or more methods listed in 36 CFR 1.7(a).

(4) May I operate a snowcoach in Yellowstone National Park? (i) A snowcoach may only be operated in Yellowstone National Park under a concessions contract. Snowcoach operation is subject to the conditions stated in the concessions contract and all other conditions identified in this section.

(ii) As of December 15, 2014, a diesel-fueled snowcoach must meet EPA model year 2010 air emission requirements. A diesel snowcoach with a GVWR greater than 8,500 pounds must meet EPA model year 2010 “engine configuration certified” diesel air emission requirements, whether new or retrofitted. A diesel snowcoach with a GVWR less than 10,000 pounds may instead meet EPA model year 2010 light duty Tier 2 standards, whether new or retrofitted.

(iii) As of December 15, 2014, a gasoline-fueled snowcoach must meet EPA model year 2010 air emission requirements, whether new or retrofitted.

(iv) As of December 15, 2014, a snowcoach may not exceed a sound level of 73 dBA when measured by operating the coach at or near full throttle for the test cycle. In accordance with Society of Automotive Engineers test procedures, a variance of up to 2 dBA is allowed.

A snowcoach may be tested at any barometric pressure equal to or above 23.4 inches Hg uncorrected.

(v) Through March 15, 2014, a non-historic snowcoach must meet NPS air emissions requirements, which mean the applicable EPA emissions standards for the vehicle that were in effect at the time it was manufactured.

(vi) All emission-related exhaust components (as listed in 40 CFR 86.004-25(b)(3)(iii) through (v)) must be functioning properly. Such emissions-related components may only be replaced with the original equipment manufacturer (OEM) component, where possible. Where OEM parts are not available, aftermarket parts may be used if they are certified not to worsen emission and sound characteristics.

(vii) Operating a snowcoach with the original pollution control equipment disabled or modified is prohibited.

(viii) A snowcoach meeting the requirements for air and sound emissions may be operated in the park for a period not exceeding 10 years from the date upon it was first certified by the Superintendent.

(ix) A snowcoach may be subject to periodic inspections to determine compliance with the requirements of paragraphs (l)(4)(ii) through (l)(4)(viii) of this section.

(5) Must I operate a certain model of snowmobile? Only commercially available snowmobiles that meet NPS air and sound emissions requirements as set forth in this section may be operated in the park. The Superintendent will approve snowmobile makes, models, and years of manufacture that meet those requirements. Any snowmobile model not approved by the Superintendent may not be operated in the park.

(6) How will the Superintendent approve snowmobile makes, models, and years of manufacture for use in the park? (i) Through March 15, 2014, all snowmobiles must be certified under 40 CFR part 1051, to a Family Emission Limit no greater than 15 g/kW-hr for hydrocarbons and to a Family Emission Limit no greater than 120 g/kW-hr for carbon monoxide. As of December 15, 2014, all snowmobiles must be certified under 40 CFR part 1051, to a Family Emission Limit no greater than 15 g/kW-hr for the sum of nitrogen oxides and hydrocarbons and to a Family Emission Limit no greater than 120 g/kW-hr for carbon monoxide.

(ii) The snowmobile test procedures specified by EPA (40 CFR Parts 1051 and 1065) must be used to measure air emissions from model year 2005 and later snowmobiles.

(iii) For sound emissions, through March 15, 2014, snowmobiles must operate at or below 73 dB(A) as measured at full throttle according to Society of Automotive Engineers J192 test procedures (revised 1985). Snowmobiles may be tested at any barometric pressure equal to or above 23.4 inches Hg uncorrected. As of December 15, 2014, snowmobiles must operate at or below 73 dB(A) as measured at full throttle in accordance with the applicable (as of November 1, 2012) Society of Automotive J192 test procedures. The test must be accomplished within the barometric pressure limits of the test procedure; there will be no allowance for elevation. The Superintendent may revise these testing procedures based on new information and/or updates to the SAE J192 testing procedures.

(iv) A snowmobile meeting the requirements for air and sound emissions may be operated in the park for a period not exceeding 6 years from the date upon which it was first certified by the Superintendent.

(v) The Superintendent may prohibit entry into the park of any snowmobile that has been modified in a manner that may adversely affect air or sound emissions.

(vi) These air and sound emissions requirements do not apply to a snowmobile being operated on the Cave Falls Road in Yellowstone.

(7) Where may I operate a snowmobile in Yellowstone National Park? (i) You may operate a snowmobile only upon designated oversnow routes established within the park in accordance with 36 CFR 2.18(c). The following oversnow routes are so designated:

(A) The Grand Loop Road from its junction with Upper Terrace Drive to Norris Junction.

(B) Norris Junction to Canyon Junction.

(C) The Grand Loop Road from Norris Junction to Madison Junction.

(D) The West Entrance Road from the park boundary at West Yellowstone to Madison Junction.

(E) The Grand Loop Road from Madison Junction to West Thumb.

(F) The South Entrance Road from the South Entrance to West Thumb.

(G) The Grand Loop Road from West Thumb to its junction with the East Entrance Road.

(H) The East Entrance Road from Fishing Bridge Junction to the East Entrance.

(I) The Grand Loop Road from its junction with the East Entrance Road to Canyon Junction.

(J) The South Canyon Rim Drive.

(K) Lake Butte Road.

(L) In the developed areas of Madison Junction, Old Faithful, Grant Village, West Thumb, Lake, Fishing Bridge, Canyon, Indian Creek, and Norris.

(M) Cave Falls Road.

(N) For the winter of 2011-2012 only, snowmobiles may be used on the following routes between noon and 9 p.m. each day: Firehole Canyon Drive, North Canyon Rim Drive, and Riverside Drive.

(ii) The Superintendent may open or close these routes, or portions thereof, for snowmobile travel after taking into consideration the location of wintering wildlife, appropriate snow cover, public safety, avalanche conditions, and other factors. Notice of such opening or closing will be provided by one or more of the methods listed in 36 CFR 1.7(a).

(iii) This paragraph (l)(7) also applies to non-administrative oversnow vehicle use by NPS employees, contractors, or concessioner employees, or other non-recreational users authorized by the Superintendent.

(iv) Maps detailing the designated oversnow routes will be available from Park Headquarters.

(8) What routes are designated for snowcoach use? (i) Authorized snowcoaches may be operated on the routes designated for snowmobile use in paragraphs (l)(7)(i)(A) through (l)(7)(i)(L) of this section. Snowcoaches may also be operated on the following additional oversnow route:

(A) For rubber-tracked snowcoaches only, the Grand Loop Road from Upper Terrace Drive to the junction of the Grand Loop Road and North Entrance Road, and within the Mammoth Hot Springs developed area.

(B) For the winter of 2011-2012 only, snowcoaches may be used on the following routes: Firehole Canyon Drive, North Canyon Rim Drive, Riverside Drive, Fountain Flat Road, and the Grand Loop Road from Canyon Junction to Washburn Hot Springs overlook.

(ii) The Superintendent may open or close these oversnow routes, or portions thereof, or designate new routes for snowcoach travel after taking into consideration the location of wintering wildlife, appropriate snow cover, public safety, and other factors. Notice of such opening or closing shall be provided by one of more of the methods listed in 36 CFR 1.7(a).

(iii) This paragraph (l)(8) also applies to non-administrative snowcoach use by NPS employees, contractors, concessioner employees, or other non-recreational users authorized by the Superintendent.

(9) Must I travel with a commercial guide while snowmobiling in Yellowstone and what other guiding requirements apply? (i) All recreational snowmobile operators must be accompanied by a commercial guide.

(ii) Snowmobile parties must travel in a group of no more than 11 snowmobiles, including that of the guide.

(iii) Guided parties must travel together within a maximum of one-third mile of the first snowmobile in the group.

(iv) The guiding requirements described in this paragraph (l)(9) do not apply to snowmobiles being operated on the Cave Falls Road.

(10) Are there limits established for the number of snowmobiles and snowcoaches permitted to operate in the park each day? The number of snowmobiles and snowcoaches allowed to operate in the park each day is limited to a certain number. Allocations may be shared among authorized guides between entrances or location. The limits will vary by day in accordance with the limits listed in the following table:

Table 1 to § 7.13(l)(10)—Daily Snowmobile and Snowcoach Limits *
Park entrance/location | Level A: Commercially guided snowmobiles | Level A: Commercially guided snowcoaches | Level B: Commercially guided snowmobiles | Level B: Commercially guided snowcoaches | Level C: Commercially guided snowmobiles | Level C: Commercially guided snowcoaches | Level D: Commercially guided snowmobiles | Level D: Commercially guided snowcoaches
(i) North Entrance | 11 | 12 | 0-11 | 8 | 0-11 | 6 | 0-11 | 12
(ii) West Entrance | 176 | 36 | 110 | 22 | 66 | 12 | 66 | 36
(iii) South Entrance | 110 | 14 | 66 | 8 | 44 | 6 | 44 | 14
(iv) East Entrance | 22 | 2 | 0-22 | 0-2 | 0-11 | 0 | 0-11 | 2
(v) Old Faithful | 11 | 16 | 11 | 10 | 0-11 | 6 | 0-11 | 16
(vi) Cave Falls ** | 50 | 0 | 50 | 0 | 50 | 0 | 50 | 0
Totals (without Cave Falls) | 330 | 80 | 187-220 | 48-50 | 110-143 | 30 | 110-143 | 80
* For the winter of 2011-2012 only, the following snowmobile allocations are in effect: West Entrance, 160; South Entrance, 114; East Entrance, 20; North Entrance, 12; and Old Faithful, 12. The following snowcoach allocations will apply in 2011-2012 only: West Entrance, 34; South Entrance, 13; East Entrance, 2; North Entrance, 13; and Old Faithful, 16.
** These snowmobiles operate on an approximately 1-mile segment of road within the park where the use is incidental to other snowmobiling activities in the Caribou-Targhee National Forest. These snowmobiles do not need to be guided or to meet NPS air and sound emissions requirements.

(11) How will I know when I can operate a snowmobile or snowcoach in the park? The Superintendent will:

(i) Determine operating hours, dates, and use levels.

(ii) The public will be notified of operating hours, dates, use levels and any applicable changes through one or more of the methods listed in § 1.7(a) of this chapter.

(iii) Except for emergency situations, any changes to the operating hours, dates, and use levels will be made on an annual basis.

(12) What other conditions apply to the operation of oversnow vehicles? (i) The following are prohibited:

(A) Idling an oversnow vehicle for more than 5 minutes at any one time.

(B) Driving an oversnow vehicle while the driver's motor vehicle license or privilege is suspended or revoked.

(C) Allowing or permitting an unlicensed driver to operate an oversnow vehicle.

(D) Driving an oversnow vehicle in willful or wanton disregard for the safety of persons, property, or park resources or otherwise in a reckless manner.

(E) Operating an oversnow vehicle without a lighted white headlamp and red taillight.

(F) Operating an oversnow vehicle that does not have brakes in good working order.

(G) The towing of persons on skis, sleds, or other sliding devices by oversnow vehicles, except in emergency situations.

(ii) The following are required:

(A) All oversnow vehicles that stop on designated routes must pull over to the far right and next to the snow berm. Pullouts must be used where available and accessible. Oversnow vehicles may not be stopped in a hazardous location or where the view might be obscured, or operated so slowly as to interfere with the normal flow of traffic.

(B) Oversnow vehicle drivers must possess a valid motor vehicle driver's license. A learner's permit does not satisfy this requirement. The license must be carried by the driver at all times.

(C) Equipment sleds towed by a snowmobile must be pulled behind the snowmobile and fastened to the snowmobile with a rigid hitching mechanism.

(D) Snowmobiles must be properly registered and display a valid registration from a state or province in the United States or Canada, respectively.

(iii) The Superintendent may impose other terms and conditions as necessary to protect park resources, visitors, or employees. The public will be notified of any changes through one or more methods listed in § 1.7(a) of this chapter.

(iv) This paragraph (l)(12) also applies to non-administrative oversnow vehicle use by NPS employees, contractors, or concessioner employees, or other non-recreational users authorized by the Superintendent.

(13) What conditions apply to alcohol use while operating an oversnow vehicle? In addition to 36 CFR 4.23, the following conditions apply:

(i) Operating or being in actual physical control of an oversnow vehicle is prohibited when the driver is under 21 years of age and the alcohol concentration in the driver's blood or breath is 0.02 grams or more of alcohol per 100 milliliters of blood or 0.02 grams or more of alcohol per 210 liters of breath.

(ii) Operating or being in actual physical control of an oversnow vehicle is prohibited when the driver is a snowmobile guide or a snowcoach driver and the alcohol concentration in the operator's blood or breath is 0.04 grams or more of alcohol per 100 milliliters of blood or 0.04 grams or more of alcohol per 210 liters of breath.

(iii) This paragraph (1)(13) also applies to non-administrative oversnow vehicle use by NPS employees, contractors, or concessioner employees, or other non-recreational users authorized by the Superintendent.

(14) Do other NPS regulations apply to the use of oversnow vehicles? (i) The use of oversnow vehicles in Yellowstone is subject to §§ 2.18(a) and (c), but not subject to §§ 2.18(b), (d), (e), and 2.19(b) of this chapter.

(ii) This paragraph (l)(14) also applies to non-administrative oversnow vehicle use by NPS employees, contractors, concessioner employees, or other non-recreational users authorized by the Superintendent.

(15) Are there any forms of non-motorized oversnow transportation allowed in the park?

(i) Non-motorized travel consisting of skiing, skating, snowshoeing, or walking is permitted unless otherwise restricted under this section or other NPS regulations.

(ii) The Superintendent may designate areas of the park as closed, reopen previously closed areas, or establish terms and conditions for non-motorized travel within the park in order to protect visitors, employees, or park resources. Notice will be made in accordance with § 1.7(a) of this chapter.

(iii) Dog sledding and ski-joring (a skier being pulled by a dog, horse or vehicle) are prohibited. Bicycles, including bicycles modified for oversnow travel, are not allowed on oversnow routes in Yellowstone.

(16) May I operate a snowplane in Yellowstone National Park? The operation of a snowplane in Yellowstone is prohibited.

(17) Is violating any of the provisions of this section prohibited? Violating any of the terms, conditions or requirements of paragraphs (l)(1) through (l)(16) of this section is prohibited.

* * * * *

Dated: May 9, 2011.
Will Shafroth,
Acting Assistant Secretary for Fish and Wildlife and Parks.

[FR Doc. 2011-16786 Filed 7-1-11; 8:45 am]

BILLING CODE 4310-CT-P